FEDERAL COMMUNICATIONS COMMISSION

47 CFR Part 73

[DA 01-1909; MM Docket No. 00-14; RM-9753]

Radio Broadcasting Services; Elkhorn City and Coal Run, KY

AGENCY: Federal Communications Commission.

ACTION: Final rule.

SUMMARY: The Commission, at the request of East Kentucky Broadcasting Corporation, reallots Channel 276A from Elkhorn City to Coal Run Kentucky, and modifies Station WPKE-FM license accordingly. See 65 FR 7816, February 16, 2000. Channel 276A can be reallotted to Coal Run in compliance with the Commission's minimum distance separation requirements with a site restriction of 13.4 kilometers (8.3 miles) south at petitioner's requested site. The coordinates for Channel 276A at Coal Run are 37-23-57 North Latitude and 82-30-32 West Longitude.

DATES: Effective September 24, 2001.

FOR FURTHER INFORMATION CONTACT: Sharon P. McDonald, Mass Media Bureau, (202) 418-2180.

SUPPLEMENTARY INFORMATION: This is a synopsis of the Commission's Report and Order, MM Docket No. 00-14 adopted August 1, 2001, and released August 10, 2001. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Kentucky, is amended by adding Coal Run, Channel 276A; and removing Elkhorn City, Channel 276A.

Federal Communications Commission.
John A. Karousos,
Chief, Allocations Branch, Policy and Rules Division, Mass Media Bureau.

[FR Doc. 01-21412 Filed 8-23-01; 8:45 am]

BILLING CODE 6712-01-U